DEPARTMENT OF ENERGY

Federal Energy Regulatory Commission

Combined Notice of Filings #1

August 7, 2009.

Take notice that the Commission received the following electric rate filings:

Docket Numbers: ER09-1547-000.

Applicants: PJM Interconnection, LLC.

Description: PJM Interconnection, LLC submits an executed interconnection service agreement entered in among PJM et al.

Filed Date: 8/6/2009.

Accession Number: 20090806-0099.

Comment Date: 5 p.m. Eastern Time on Thursday, August 27, 2009.

Docket Numbers: ER09-1548-000.

Applicants: Midwest Independent Transmission System Operator, Inc.

Description: Midwest Independent Transmission System Operator, Inc. submits notice of succession of certain transmission service agreements and network integration transmission service etc. Part 1 of 5.

Filed Date: 8/6/2009.

Accession Number: 20090806-0094.

Comment Date: 5 p.m. Eastern Time on Thursday, August 27, 2009.

Docket Numbers: ER09-1550-000.

Applicants: PJM Interconnection, LLC.

Description: PJM Interconnection, LLC submits Original Service Agreement 2261 to its FERC Electric Tariff, Sixth Revised Volume 1.

Filed Date: 8/6/2009.

Accession Number: 20090807-0089.

Comment Date: 5 p.m. Eastern Time on Thursday, August 27, 2009.

Docket Numbers: ER09-1551-000.

Applicants: PJM Interconnection, LLC.

Description: PJM Interconnection, LLC submits executed Wholesale Market Participation Agreement with Sunnyside Ethanol, LLC et al.

Filed Date: 8/6/2009.

Accession Number: 20090807-0090.

Comment Date: 5 p.m. Eastern Time on Thursday, August 27, 2009.

Docket Numbers: ER09-1552-000.

Applicants: PJM Interconnection, LLC.

Description: PJM Interconnection, LLC submits an executed Wholesale Market Participation Agreement with Solar Cap, LLC et al.

Filed Date: 8/7/2009.

Accession Number: 20090807-0091.

Comment Date: 5 p.m. Eastern Time on Friday, August 28, 2009.

Docket Numbers: ER09-1553-000.

Applicants: Carolina Power & Light Company.

Description: Carolina Power & Light Company submits Second Revised Service Agreement to its FERC Electric Tariff, Fourth Revised Volume 3.

Filed Date: 8/7/2009.

Accession Number: 20090807-0092.

Comment Date: 5 p.m. Eastern Time on Friday, August 28, 2009.

Take notice that the Commission received the following electric reliability filings:

Docket Numbers: RR08-6-003.

Applicants: North American Electric Reliability Corp.

Description: Request of the North American Electric Reliability Corporation for Approval of Supplemental 2009 Budget and Funding Request for the Midwest Reliability Organization.

Filed Date: 8/6/2009.

Accession Number: 20090806-5079.

Comment Date: 5 p.m. Eastern Time on Tuesday, September 8, 2009.

Docket Numbers: RR09-8-000.

Applicants: North American Electric Reliability Corp.

Description: Petition for Approval of Amendments to the Bylaws of the North American Electric Reliability Corporation.

Filed Date: 8/6/2009.

Accession Number: 20090806-5081.

Comment Date: 5 p.m. Eastern Time on Tuesday, September 8, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-19592 Filed 8-14-09; 8:45 am]

BILLING CODE 6717-01-P